Title 3—

The President

Proclamation 9527—National Historically Black Colleges and Universities Week, 2016

Correction

In Presidential document 2016-26070 beginning on page 74653 in the issue of Wednesday, October 26, 2016, make the following correction:

On page 74653, in the document heading, the date following “Proclamation 9527 of” should read “October 21, 2016”.

[FR Doc. C1-2016-26070

Filed 11-21-16; 8:45 am]

Billing code 3295-F7-P